DEPARTMENT OF TRANSPORTATION

Federal Highway Administration

Notice of Final Federal Agency Actions on Project: I-5: Glendale-Hugo Paving/Sexton Climbing Lane: Douglas and Josephine Counties, OR

AGENCY: Federal Highway Administration (FHWA), DOT.

ACTION: Notice of Limitations on Claims for Judicial Review of Actions by FHWA, NMFS, USF&WS, and the Army Corps of Engineers (USACE).

SUMMARY: This notice announces actions taken by the FHWA, USACE, and other Federal agencies that are final within the meaning of 23 U.S.C. 139(l)(1). The actions relate to a proposed highway project, I-5: Glendale-Hugo Paving/Sexton Climbing Lane, in Douglas and Josephine Counties, Oregon. Those actions grant licenses, permits and approval for the project.

DATES: By this notice, the FHWA is advising the public of final agency actions subject to 23 U.S.C. 139(l)(1). A claim seeking judicial review of the Federal agency actions on the highway project will be barred unless the claim is filed on or before February 16, 2013. If the Federal law that authorizes judicial review of a claim provides a time period of less than 180 days for filing such claim, then that shorter time period still applies.

FOR FURTHER INFORMATION CONTACT: Michelle Eraut, Program Development Team Leader, Federal Highway Administration, 530 Center Street NE., Suite 420, Salem, Oregon 97301, Telephone: (503) 316-2559; Dominic Yballe, US Army Corps of Engineers, P.O. Box 2946, Portland, Oregon 97208-2946, Telephone: (503) 808-4392; Kevin Maurice, Wildlife Biologist, USFWS Oregon State Office, 2600 SE. 98th Ave., Suite 100, Portland, Oregon 97266, Telephone: (503) 231-6179; Marc Liverman, Branch Chief, National Marine Fisheries Service, 1201 NE Lloyd Boulevard, Suite 1100, Portland, Oregon 97232; Telephone: (503) 231-2336.

The I-5: Glendale-Hugo Paving/Sexton Climbing Lane categorical exclusion and other project records are available upon written request from the Federal Highway Administration at the address shown above. Comments or questions concerning this proposed action and the I-5: Glendale-Hugo Paving/Sexton Climbing Lane categorical exclusion should be directed to the FHWA at the address provided above.

SUPPLEMENTARY INFORMATION: Notice is hereby given that the FHWA, USACE, USF&WS and NMFS have taken final agency action subject to 23 U.S.C. 139 (l)(1) by issuing licenses, permits and approval for the following highway project in the State of Oregon: I-5: Glendale-Hugo Paving/Sexton Climbing Lane. The project will repave between mile points 66.3 and 81.5 on Interstate 5. This will also include replacing substandard and damaged guardrail, and also replacing substandard median barrier. The project will also construct a third lane, a climbing lane, on the northbound side of Sexton Mountain pass between mile points 66.7 and 69.6 to accommodate trucks climbing the pass. The actions by the Federal agencies and the laws under which such actions were taken are described in categorical exclusion issued on August 14, 2012, and in other documents in the FHWA project records. The categorical exclusion and other project records are available by contacting the FHWA at the address provided above. This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 4321-4347 and 7401-7671(q)].

3. Land: Section 4(f) of the Department of Transportation Act of 1966 [23 U.S.C. 138 and 49 U.S.C. 303]; Land and Water Conservation Fund (LWCF) [16 U.S.C. 4601-4604]; Landscaping and Scenic Enhancement (Wildflowers) [23 U.S.C. 319].

4. Wildlife: Endangered Species Act [16 U.S.C. 1531-1544 and Section 1536 and 7 U.S.C. 136]; Magnuson-Stevenson Fishery and Conservation Management Act [16 U.S.C. 1801 et seq.]; Anadromous Fish Conservation Act [16 U.S.C. 757]; Fish and Wildlife Coordination Act [16 U.S.C. 661-667 (e)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(mm)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996-1996a]; Farmland Protection Policy Act (FPPA) [7 U.S.C. 4201-4209].

7. Wetlands and Water Resources: Clean Water Act (Section 404, Section 401, Section 319) [33 U.S.C. 1251-1377]; Safe Drinking Water Act (SDWA) [42 U.S.C. 300(f)-300(j-26)]; Rivers and Harbors Act of 1899 [33 U.S.C. 401-406]; Emergency Wetlands Resources Act, [16 U.S.C. 3901-3932]; Wetlands Mitigation [23 U.S.C. 103(b)(6)(M) and 133(b)(11)]; Flood Disaster Protection Act, 42 U.S.C. 4001-4120.

8. Hazardous Materials: Comprehensive Environmental Response, Compensation and Liability Act (CERCLA), [42 U.S.C. 9601-9675]; Resource Conservation and Recovery Act (RCRA), [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: August 14, 2012.
Michelle Eraut,
Program Development Team Leader, Salem, Oregon.

[FR Doc. 2012-20363 Filed 8-17-12; 8:45 am]

BILLING CODE 4910-22-P